DEPARTMENT OF LABOR

Employment and Training Administration

Investigations Regarding Certifications of Eligibility To Apply for Worker Adjustment Assistance

Petitions have been filed with the Secretary of Labor under Section 221(a) of the Trade Act of 1974 (“the Act” and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 30, 2001.

Interested persons are invited to submit written comments regarding the subject matter of the investigations to the Director, Division of Trade Adjustment Assistance, at the address shown below, not later than April 30, 2001.

The petitions filed in this case are available for inspection at the Office of the Director, Division of Trade Adjustment Assistance, Employment and Training Administration, U.S. Department of Labor, Room C-5311, 200 Constitution Avenue, NW., Washington, DC 20210.

Signed at Washington, DC this 2nd day of April, 2001.
Edward A. Tomchick,
Director, Division of Trade Adjustment Assistance.

Appendix
[Petitions Instituted on 04/02/2001]
TA-W | Subject Firm (Petitioners) | Location | Date of Petition | Product(s)
38,944 | Crane Pumps and Systems (Wrks) | Piqua, OH | 03/09/2001 | Casting—Machined and Assembled
38,945 | Avaya Communication (Comp) | Shreveport, LA | 03/15/2001 | Telecommunications Equipment
38,946 | Maxi Switch, Inc. (Comp) | Tucson, AZ | 03/13/2001 | PCB Sub-Assemblies
38,947 | Falcon Shoe Manufacturing (Comp) | Lewiston, ME | 03/20/2001 | Work and Safety Footwear
38,948 | C.B. Cummings and Sons Co (Comp) | Norway, ME | 03/21/2001 | Wooden Dowel Rods
38,949 | Columbia Forest Products (Comp) | Klamath Falls, OR | 03/15/2001 | Softwood Veneer
38,950 | Welbilt Corp—Delfield (Wkrs) | Mt. Pleasant, MI | 03/15/2001 | Stainless Steel Tables—Food Units
38,951 | Findlay Industries (UNITE) | Botkins, OH | 03/20/2001 | Automobile Seat Covers
38,952 | Keystone Thermometrics (Wkrs) | St. Marys, PA | 03/16/2001 | Termisters (Temp. Control Devices)
38,953 | Steac-Hamatech (Wkrs) | Saco, ME | 03/21/2001 | Compact Discs
38,954 | Omicron Industries, Inc. (Comp) | El Paso, TX | 03/22/2001 | Pumice Stone
38,955 | Sherpard/Justin (UNITE) | New Bedford, MA | 03/12/2001 | Men's Suits
38,956 | Ciba Specialty Chemical (Wkrs) | Old Bridge, NJ | 03/19/2001 | Water Treatment Chemicals
38,957 | Nu-Kote International (Compu) | Franklin, TN | 03/20/2001 | Ink Jet Cartridges
38,958 | Moeller Rubber Products (USWA) | Greenville, MS | 03/21/2001 | Molded Rubber Plugs
38,959 | Carlisle Tire and Wheel (Wkrs) | Clinton, TN | 03/19/2001 | Tires and Wheels—Lawn & Garden
38,960 | Spectron Lasers USA, Inc (Comp) | Warwick, RI | 03/12/2001 | Laser Tubes and Heads for Industrial Use
38,961 | Hamburg Uniforms (Comp) | Hamburg, AR | 03/15/2001 | Uniform Knit Shirts
38,962 | Smith Systems Mfg (Wrks) | Plano, TX | 03/20/2001 | School Furniture
38,963 | Ridgeview, Inc. (Wrks) | Newton, NC | 03/21/2001 | Athletic Socks
38,964 | SLI Product Lighting (Wrks) | Mullins, SC | 03/20/2001 | Light Bulbs
38,965 | Ingersoll Milling Machine (Wrks) | Rockford, IL | 03/16/2001 | High Velocity Milling Machines
38,966 | Dearborn Brass (GMP) | Tyler, TX | 02/09/2001 | Traps for Bothroom & Kitchen fixtures

[FR Doc. 01-9722 Filed 4-18-01; 8:45 am]

BILLING CODE 4510-30-M